DEPARTMENT OF COMMERCE

Foreign-Trade Zones Board

[S-215-2022]

Approval of Expansion of Subzone 18G, Tesla, Inc., Oakland, California

On December 7, 2022, the Executive Secretary of the Foreign-Trade Zones (FTZ) Board docketed an application submitted by the City of San Jose, grantee of FTZ 18, requesting an expansion of Subzone 18G subject to the existing activation limit of FTZ 18, on behalf of Tesla, Inc., in Oakland, California.

The application was processed in accordance with the FTZ Act and Regulations, including notice in the Federal Register inviting public comment (87 FR 76178, December 13, 2022). The FTZ staff examiner reviewed the application and determined that it meets the criteria for approval. Pursuant to the authority delegated to the FTZ Board Executive Secretary (15 CFR 400.36(f)), the application to expand Subzone 18G was approved on February 2, 2023, subject to the FTZ Act and the Board's regulations, including Section 400.13, and further subject to FTZ 18's 2,000-acre activation limit.

Dated: February 2, 2023.
Elizabeth Whiteman,
Acting Executive Secretary.

[FR Doc. 2023-02625 Filed 2-7-23; 8:45 am]

BILLING CODE 3510-DS-P